DEPARTMENT OF THE INTERIOR

Bureau of Land Management

[LLCON04000.L14400000.EQ0000.17X]

Notice of Realty Action: Designation of Public Lands in Garfield County, Colorado, as Suitable for Lease Renewal for Agricultural Uses

AGENCY: Bureau of Land Management, Interior.

ACTION: Notice of realty action.

SUMMARY: The Bureau of Land Management (BLM) proposes to renew a lease of 31 acres, more or less, located 4 miles southeast from Carbondale, Colorado, to continue agricultural and ranching operations for the Carbondale Corporation.

DATES: In order to ensure consideration in the environmental analysis of the proposed lease renewal, comments must be received by March 15, 2018.

ADDRESSES: You may submit written comments to Gloria Tibbetts, Assistant Field Manager, Colorado River Valley Field Office, 2300 River Frontage Road, Silt, CO 81652. Comments can be emailed to blm_co_si_crvfo_webmail@blm.gov. Additional information, including details of the lease area, location map, lease terms and conditions, and planning documents, is available for review at this address.

FOR FURTHER INFORMATION CONTACT: Monte Senor, Realty Specialist, BLM, Colorado River Valley Field Office, at the above address, by phone at (970) 876-9053, or by email at msenor@blm.gov. Persons who use a telecommunications device for the deaf may call the Federal Relay Service at 1-800-877-8339 to contact the above individual during normal business hours. The Service is available 24 hours a day, 7 days a week, to leave a message or question with the above individual. You will receive a reply during normal business hours.

SUPPLEMENTARY INFORMATION: The site has been examined and found suitable for leasing under provisions of Section 302 of the Federal Land Policy and Management Act of 1976 (43 U.S.C. 1732) and 43 CFR part 2920. The BLM Colorado River Valley Field Office has identified the following described public lands as preliminarily suitable for non-competitive lease.

Sixth Principal Meridian, Colorado

T. 8 S, R. 88 W,

Sec. 1, SE1/4SE1/4;

Sec. 12, lot 1, E1/2NE1/4 and E1/2SE1/4.

The lands proposed for lease within the area described above contain 31 acres. The lease renewal is proposed to authorize agricultural uses, including an irrigated hayfield and non-irrigated range land, by the Carbondale Corporation.

Before including your address, phone number, email address, or other personal identifying information in your comment, you should be aware that your entire comment—including your personal identifying information—may be made publicly available at any time. While you can ask us in your comment to withhold your personal identifying information from public review, we cannot guarantee that we will be able to do so.

Any adverse comments will be evaluated by the Assistant Field Manager who may sustain, vacate, or modify this Realty Action and issue a final determination of the Bureau.

Authority: 43 CFR 2920.4.

Gregory P. Shoop,
Acting BLM Colorado State Director.

[FR Doc. 2018-01590 Filed 1-26-18; 8:45 am]

BILLING CODE 4310-JB-P